DEPARTMENT OF HOMELAND SECURITY

Coast Guard

33 CFR Part 117

[CGD01-04-114]

Drawbridge Operation Regulations: Fore River, ME

AGENCY: Coast Guard, DHS.

ACTION: Notice of temporary deviation from regulations.

SUMMARY: The Commander, First Coast Guard District, has issued a temporary deviation from the drawbridge operation regulations for the Casco Bay Bridge, mile 1.5, across the Fore River between Portland and South Portland, Maine. This temporary deviation allows the bridge owner to require a four-hour advance notice for bridge openings from September 7, 2004 through November 5, 2004. Additionally, this deviation also allows the bridge to remain in the closed position, Monday through Friday, 9 p.m. to 5 a.m. from September 13, 2004 through October 1, 2004, and again, Monday through Friday, 6 a.m. to 6 p.m. from October 4, 2004 through October 22, 2004. This temporary deviation is necessary to facilitate structural modifications at the bridge.

DATES: This deviation is effective from September 7, 2004 through November 5, 2004.

FOR FURTHER INFORMATION CONTACT: John McDonald, Project Officer, First Coast Guard District, at (617) 223-8364.

SUPPLEMENTARY INFORMATION: The bridge owner, Maine Department of Transportation, requested a temporary deviation from the drawbridge operating regulations to facilitate structural modifications designed to improve reliability of the operating system at the bridge. The Coast Guard coordinated these requested closures with the mariners that normally use this waterway in order to minimize any disruption to the marine transit system.

Under this temporary deviation a four-hour advance notice for bridge openings shall be required from September 7, 2004 through November 5, 2004. Additionally, the bridge may also remain in the closed position, Monday through Friday, 9 p.m. to 5 a.m. from September 13, 2004 through October 1, 2004, and again, Monday through Friday, 6 a.m. to 6 p.m. from October 4, 2004 through October 22, 2004.

This deviation from the operating regulations is authorized under 33 CFR 117.35, and will be performed with all due speed in order to return the bridge to normal operation as soon as possible.

Dated: August 25, 2004.
David P. Pekoske,
Rear Admiral, U.S. Coast Guard, Commander, First Coast Guard District.

[FR Doc. 04-20457 Filed 9-8-04; 8:45 am]

BILLING CODE 4910-15-P